DEPARTMENT OF EDUCATION

[CFDA No. 84.041C]

Office of Elementary and Secondary Education; Impact Aid Discretionary Construction Grant Program; Notice Inviting Applications for New Awards for Fiscal Year (FY) 2002 Funds

Purpose of Program: The Impact Aid Discretionary Construction Grant Program will provide grants to eligible Impact Aid districts to assist them in addressing their school facilities emergency and modernization needs. The intended recipient Impact Aid school districts have a limited ability to raise revenues for capital improvements because they have high percentages of federally connected students or a large percentage of Federal land. As a result, these districts find it difficult to respond when their school facilities are in need of emergency improvements or modernization.

Eligible Applicants: (A) To be eligible for an emergency construction grant, a local educational agency (LEA) must enroll a high percentage of federally connected children who reside on Indian lands or who reside on Federal property and have a parent on active duty in the U.S. uniformed services, have a school that enrolls a high percentage of one of these types of students, or be eligible for funding for heavily impacted LEAs under section 8003(b)(2) of the Elementary and Secondary Education Act of 1965 (the Act), as amended by the No Child Left Behind Act of 2001. Such factors as the LEA's total assessed value of real property that may be taxed for school purposes, its availability and use of bonding capacity, and the nature and severity of the emergency also will be considered as award criteria and, in some cases, eligibility criteria. (B) To be eligible for a modernization construction grant, an LEA must be eligible for Impact Aid funding in general; be eligible for funding for heavily impacted LEAs under section 8003(b)(2) of the Act; enroll a high percentage (at least 40 percent) of federally connected children who reside on Indian lands or who reside on Federal property and have a parent on active duty in the U.S. uniformed services; have a school that enrolls a high percentage of one of these types of students; or be eligible for funding under section 8002 of the Act (payments for Federal property). The Secretary must also consider such factors as an LEA's total assessed value of real property that may be taxed for school purposes, its availability and use of bonding capacity, and the nature and severity of its need for modernization funds as award criteria and, in some cases, eligibility criteria. (C) Applications are considered in four priority categories. Detailed information about the eligibility requirements for each priority can be found in 34 CFR 222.177 through 222.182.

Applications Available: August 29, 2002.

Deadline for Transmittal of Applications: November 15, 2002.

Deadline for Intergovernmental Review: January 14, 2003.

Estimated Available Funds: $27,000,000.

Estimated Range of Awards: $500,000-$4,000,000.

Estimated Average Size of Awards: $1,000,000.

Estimated Number of Awards: 10-30.

Note: The Department is not bound by any estimates in this notice.

Project Period: From the start date indicated on the grant award documents until the end of the project period indicated on the grant award documents.

Page Limit: We have found that reviewers are able to conduct the highest-quality review when applications are concise and easy to read. We strongly recommend that applicants limit their response in each applicable narrative section to two pages. Do not include drawings, designs, or other extraneous documents regarding proposed projects because reviewers will not consider them.

Applicable Regulations: (a) The Education Department General Administrative Regulations (EDGAR) in 34 CFR parts 74, 75 (except for 34 CFR 75.600 through 75.617), 77, 79, 80, 82, 85, 86, 97, 98, 99, and 222.

SUPPLEMENTARY INFORMATION: Application Content: Each Impact Aid Discretionary Construction Grant Program application must include the specific program elements identified in the approved application (OMB No. 1810-0657) and 34 CFR 222.183 through 222.187 of the program regulations.

Use of Funds: Grant recipients must, in accordance with Federal, State and local laws, use emergency or modernization grants for permissible construction activities at public elementary and secondary school facilities. The precise scope of a selected facilities project will be identified as part of the final grant award conditions. A grantee must also ensure that its construction expenditures under this program meet the requirements of 34 CFR 222.172 (allowable program activities) and 34 CFR 222.173 through 222.174 (prohibited activities).

Grantee Reporting Requirements: In general, grantees must comply with applicable reporting requirements in 34 CFR parts 75 and 80. In addition, grantees will be required to provide periodic performance and financial reports, as specified in individual grant award conditions and 34 CFR 222.195.

Methods for Applying Selection Criteria: The Secretary gives distinct weight to the list criteria. The maximum score for each criterion is indicated in parentheses. Within each criterion, the Secretary evaluates each factor equally, unless otherwise specified. The maximum score that an application may receive is 100 points. In evaluating applications for grants under this program competition, the Secretary will use the following project selection criteria.

1. Need for Project/Magnitude or Severity of the Emergency or Modernization Problem To Be Addressed by the Proposed Project. (up to 40 points)

Factors for Emergency grants:

(a) Justification that proposed project will address a valid emergency; consistency of emergency description and proposed project with certifying local official's statement.

(b) Impact of emergency condition on the health and safety of the building occupants or on program delivery (examples: The areas and extent of the facility affected (system(s) involved, e.g., HVAC, roof, floor, windows; the type of space affected, such as instructional, resource, food service, recreational, general support, or other areas); the percentage of building occupants affected by the emergency; and the importance of the facility or affected area to the instructional program).

(c) Project urgency (examples: Risk if not addressed; projected increased future costs; effect of proposed project on the useful life of the facility or the need for major construction; or age and condition of facility and date of last renovation of affected areas). Factors for Modernization grants:

(a) Justification that proposed project is a valid modernization need (example: Building capacity is 300 students; current enrollment is 350. Three additional classrooms are needed to meet State standards re: capacity and 20-to-1 student/teacher ratio).

(b) Impact of modernization challenges on building occupants or program delivery (examples: The percentage of building occupants adversely affected; the areas and extent of the facility affected (type of space affected, such as instructional, resource, food service, recreational, general support, or other areas); and the importance of the facility or affected space to the required instructional program).

(c) Project urgency in fiscal terms (examples: Proposed project will extend useful life of current facility on cost-effective basis, or district can improve program quality with updated facility and delay replacement of facility).

2. Quality of Project Plan and Implementation Capacity. (up to 15 points)

(a) Extent to which the proposed project plan or goal is clearly specified and will address the identified need, mitigate the risks, and provide an immediate improvement.

(b) Extent to which the proposed plan and budget are cost-effective and will extend the useful life of the facility or delay the need for major construction or replacement (examples: Age and condition of facility and date of last renovation of affected areas; reasonableness and completeness of cost estimate; relationship of project costs to projected savings).

(c) District's general financial situation (examples: Available funds from other sources; ability to fund a portion of the project costs with local funds and cover cost over-runs).

(d) If applicable, the justification for why it is more cost-effective for the applicant to rebuild rather than renovate an existing facility.

3. Effects of Federal Presence. (up to 30 points total)

For section 8003 districts:

(a) Amount of non-taxable Federal property in the applicant district (percentage of Federal property divided by 10); (up to 10 points)

(b) The numbers of federally connected children identified in sections 8003(a)(1)(A), (B), (C), and (D) of the Act in the district (percentage of identified children in district divided by 10); (up to 10 points)

(c) Numbers of federally connected children identified in sections 8003(a)(1)(A), (B), (C), and (D) of the Act in the school facility (percentage of children in school facility divided by 10); (up to 10 points) or

For section 8002 districts:

(d) The amount of non-taxable Federal property in the applicant district (percentage of Federal property divided by 10 and multiplied by 3); (up to 30 points)

4. Ability to Respond or Pay. (up to 15 points total)

(a) The percentage an LEA has used of its bonding capacity. Five points to be distributed based on the LEA's quintile so that an LEA that has used 100 percent of its bonding capacity receives all five points and an LEA that has used less than 20 percent of its bond limit receives only one point. LEAs that do not have limits on bonded indebtedness established by their States will be evaluated by assuming value of real property in the LEA. LEAs deemed to have no practical capacity to issue bonds will receive all five points. (up to 5 points)

(b) Assessed value of real property per students (applicant LEA's total assessed valuation of real property per pupil as a percentile ranking of all LEAs in the State. Five points to be distributed by providing all five points to LEAs in the poorest quintile and only one point to LEAs in the wealthiest quintile). (up to 5 points)

(c) Total tax rate for capital or school purposes (applicant LEA's tax rate for capital or school purposes as a percentile ranking of all LEAs in the State. If the State authorizes a tax rate for capital expenditures, then these data must be used, otherwise data on the total tax rate for school purposes are used. Five points to be distributed by providing all five points to LEAs in the highest taxing quintile and only one point to LEAs in the lowest quintile). (up to 5 points)

Application Screening: Upon receipt, Impact Aid program staff will screen all applications to identify any that should not be included in the panel review process. Applications that do not meet the eligibility standards or are incomplete or late will be eliminated. As part of its initial application review, program staff will also calculate the objective scores for each application under criteria 3 and 4. Panel reviewers will receive an applicant's scores under criteria 3 and 4 and will assess the applications under criteria 1 and 2.

Except as provided in 34 CFR 222.190, all eligible applications in the “first priority” emergency category must be funded before applications in the next priority can be funded. The Secretary will not subject applications in the second, third, and fourth priorities to the panel review process if the need for funds in the first priority and the number of eligible applications received greatly exceeds the $27 million available. Likewise, if the numbers of applications and need for funds in the first and second priorities greatly exceed the available funds, the Secretary will not submit applications from the third and fourth priorities for a panel review. However, as prescribed in section 8007(b) of the Act and the implementing regulations, any unfunded application in any of the four priorities will be retained and considered along with the next fiscal year's pool of applicants.

Applications: Electronic applications are not available for the FY 2002 application for these grants. However, you should access and download the application at: http:www.ed.gov/offices/OESE/ImpactAid.

Waiver of Proposed Rulemaking: It is the Secretary's practice, in accordance with the Administrative Procedure Act (5 U.S.C. 553), to offer interested parties the opportunity to comment on proposed rules. Section 437(d)(1) of the General Education Provisions Act (GEPA), however, allows the Secretary to exempt from rulemaking requirements rules governing the first grant competition under a new or substantially revised program authority (20 U.S.C. 1232(d)(1)). Funding for this new program was provided in the Department's FY 2002 appropriations act and authorized under section 8007(b) of the Elementary and Secondary Education Act, as amended by the No Child Left Behind Act of 2001. The Secretary, in accordance with section 437(d)(1) of GEPA, has decided to forego public comment in order to ensure timely grant awards.

FOR FURTHER INFORMATION CONTACT: Catherine Schagh, Impact Aid Program, U.S. Department of Education, 400 Maryland Avenue, SW., FOB6, Washington, DC 20202-6244. Telephone: (202) 260-3858 or via Internet, at: Impact.Aid@ed.gov.

Individuals who use a telecommunications device for the deaf (TDD) may call the Federal Information Relay Service (FIRS) at 1-888-877-8339.

Individuals with disabilities may obtain this document in an alternative format (e.g., Braille, large print, audiotape, or computer diskette) on request using the contact information provided in the preceding paragraph.

Electronic Access to this Document: You may view this document, as well as all other Department of Education documents published in the Federal Register, in text or Abode Portable Document Format (PDF) on the Internet at the following site: http://www.ed.gov/legislation/FedRegister.

To use PDF you must have adobe Acrobat Reader, which is available free at this site. If you have questions about using PDF, call the U.S. Government Printing Office (GPO). toll free, at 1-888-293-6498; or in the Washington, DC area at (202) 512-1530.

The Department intends to offer further information about the program at the following Internet site: http://www.ed.gov/offices/OESE/ImpactAid/.

Note: The official version of this document is the document published in the Federal Register. Free Internet access to the official edition of the Federal Register and the Code of Federal Regulations is available on GPO access at: http://www.access.gpo.gov/nara/index.html.

Program Authority: Elementary and Secondary Education Act of 1965, Title VIII, as amended by the No Child Left Behind Act of 2001.

Dated: August 26, 2002.
Susan B. Neuman,
Assistant Secretary for Elementary and Secondary Education.

[FR Doc. 02-22111 Filed 8-28-02; 8:45 am]

BILLING CODE 4000-01-M